DEPARTMENT OF TRANSPORTATION

Federal Aviation Administration

14 CFR Part 71

[Docket No. FAA-2001-11180; Airspace Docket No. 01-AWA-6]

RIN 2120-AA66

Modification of the Washington Tri-Area Class B Airspace Area; DC

AGENCY: Federal Aviation Administration (FAA), DOT.

ACTION: Final rule.

SUMMARY: This action modifies the Washington, DC, Tri-Area Class B airspace area. Specifically, this action renames one of the airports within the Washington, DC, Tri-Area Class B airspace area from (Washington National Airport to the Ronald Reagan Washington National Airport). The FAA is taking this action to accurately reflect the new name of the airport. This editorial modification does not involve a change to the dimensions or operating requirements of the Washington, DC, Tri-Area Class B airspace area.

EFFECTIVE DATE: April 18, 2002.

FOR FURTHER INFORMATION CONTACT: Paul Gallant or Janet Glivings, Airspace and Rules Division, ATA-400, Office of Air Traffic Airspace Management, Federal Aviation Administration, 800 Independence Avenue, SW., Washington, DC 20591; telephone: (202) 267-8783.

SUPPLEMENTARY INFORMATION:

Background

On February 6, 1998, President William Jefferson Clinton signed into law the bill, introduced and passed by Congress (Public Law 105-154), that changed the name of Washington National Airport to Ronald Reagan Washington National Airport.

The Rule

This action amends 14 CFR part 71 by changing the name of the Washington National Airport to the Ronald Reagan Washington National Airport. This action is being taken, as mandated by Public Law 105-154, dated February 6, 1998, to accurately reflect the new name of the airport, within the Washington, DC, Tri-Area Class B airspace area, located in the District of Columbia and Virginia.

Since this action merely involves an editorial change to the name of the airport, and does not involve a change in the dimensions or operating requirements of the Class B airspace area, notice and public procedure under 5 U.S.C. 553(b) are unnecessary.

The FAA has determined that this regulation only involves an established body of technical regulations for which frequent and routine amendments are necessary to keep them operationally current. Therefore, this regulation:

(1) Is not a “significant regulatory action” under Executive Order 12866;

(2) is not a “significant rule” under Department of Transportation (DOT) Regulatory Policies and Procedures (44 FR 11034, February 26, 1979); and

(3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The coordinates for this airspace docket are based on North American Datum 83. Class B airspace areas are published in paragraph 3000 of FAA Order 7400.9J, dated August 31, 2001, and effective September 16, 2001, which is incorporated by reference in 14 CFR section 71.1. The Class B airspace area listed in this document will be published subsequently in the Order.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, CLASS B, CLASS C, CLASS D, AND CLASS E AIRSPACE AREAS; AIRWAYS; ROUTES, AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9J, Airspace Designations and Reporting Points, dated August 31, 2001, and effective September 16, 2001, is amended as follows:

Paragraph 3000—Subpart B-Class B Airspace.

* * * * *

AEA DC B Washington Tri-Area, DC [Revised]

Andrews AFB (ADW) (Primary Airport)

(Lat. 38°48′39″ N., long. 76°52′01′ W.)

Baltimore-Washington International Airport, MD (BWI) (Primary Airport)

(Lat. 39°10′31″ N., long. 76°40′09″ W.)

Ronald Reagan Washington National Airport, DC (DCA) (Primary Airport)

(Lat. 38°51′08″ N., long. 77°02′16″ W.)

Washington Dulles International Airport, DC (IAD) (Primary Airport)

(Lat. 38°56′39″ N., long. 77°27′25″ W.)

Armel VORTAC (AML)

(Lat. 38°56′05″ N., long. 77°28′00″ W.)

Fort Meade NDB

(Lat. 39°05′04″ N., long. 76°45′36″ W.)

Baltimore VORTAC

(Lat. 39°10′16″ N., long. 76°39′40″ W.)

Andrews VORTAC

(Lat. 38°48′26″ N., long. 76°51′59″ W.)

Washington VOR/DME

(Lat. 38°51′34″ N., long. 77°02′11″ W.)

Boundaries

Area A. That airspace extending upward from the surface to and including 10,000 feet MSL within a 7-mile radius of the Armel VORTAC; within a 7-mile radius of the Baltimore VORTAC; within a 7-mile radius of the Andrews VORTAC; and within a 7-mile radius of the Washington VOR/DME; excluding the airspace bounded on the north by an east/west line 1.5 miles north of the Fort Meade NDB, on the east by a north/south line 2 miles east of the Fort Meade NDB, and on the south and west by the 7-mile radius of the Baltimore VORTAC; excluding that airspace bounded to the north by an east/west line along lat. 38°46′20″ N., on the east by a north/south line along long. 76°54′24Prime; W., to the 7-mile radius of the Andrews VORTAC, and on the west by a north/south line along long. 76°59′29″ W., to the 7-mile radius of the Washington VOR/DME; excluding Prohibited Area P-56.

Area B. That airspace extending upward from 1,500 feet MSL to and including 10,000 feet MSL beginning at lat. 38°41′35″ N., long. 77°01′18″ W., then counterclockwise along the 10-mile DME arc of the Andrews VORTAC to lat. 38°58′25″ N., long. 76°52′51″ W., then counterclockwise along the 10-mile DME arc Washington VOR/DME to lat. 38°57′08″ N., long. 77°12′50Prime; W., to lat. 38°46′29″ N., long. 77°13′13″ W., then counterclockwise along the 10-mile DME arc of the Washington VOR/DME to the point of beginning; and that airspace beginning at lat. 39°05′24″ N., long. 77°18′17″ W., then counterclockwise along the 12-mile DME arc of the Armel VORTAC to lat. 38°46′22″″ N., long. 77°18′58″ W., to the point of beginning; and that airspace beginning at lat. 39°07′19″ N., long. 76°54′38″ W., then clockwise along the 12-mile DME arc of the Baltimore VORTAC to lat. 38°58′23″ N., long. 76°37′28″ W., to the point of beginning; excluding that airspace designated as Area A, Area F, and Prohibited Area P-56.

Area C. That airspace extending upward from 2,500 feet MSL to and including 10,000 feet MSL beginning at lat. 38°39′25″ N., long. 77°13′28″ W., then counterclockwise along the 15-mile DME arc of the Washington VOR/DME to lat. 38°36′36″ N., long. 77°03′46″ W., then counterclockwise along the 15-mile DME arc of the Andrews VORTAC to lat. 38°55′40″ N., long. 76°35′09″ W., then counterclockwise along the 15-mile DME arc of the Baltimore VORTAC to lat. 39°06′16″ N., long. 76°58′15″ W., then counterclockwise along the 15-mile DME arc of the Washington VOR/DME to lat. 39°04′27″ N., long. 77°12′03″ W., then counterclockwise along the 15-mile DME arc of the Armel VORTAC to lat. 39°05′02″ N., long. 77°12′34″ W., to the point of the beginning; and that airspace beginning at lat. 39°08′59″ N., long. 77°18′10″ W., then counterclockwise along the 15-mile DME arc of the Armel VORTAC to lat. 38°42′47″ N., long. 77°19′05″ W., to the point of beginning; excluding that airspace designated as Area A, Area B, Area F, Prohibited Area P-56, and that airspace contained in Restricted Area R-4001B when active.

Area D. That airspace extending upward from 3,500 feet MSL to and including 10,000 feet MSL between the 15-mile radius and the 20-mile radius of the Andrews VORTAC, the Washington VOR/DME, and the Baltimore VORTAC beginning at lat. 38°40′21″ N., long. 76°28′36″ W., to lat. 39°02′10″ N., long. 76°16′11″ W., then counterclockwise along the 20-mile DME arc of the Baltimore VORTAC to lat. 39°21′20″ N., long. 77°01′08″ W., to lat. 39°16′32″ N., long. 77°20′50″ W., to lat. 39°08′59″ N., long. 77°18′10″ W., then clockwise along the 15-mile DME arc of the Armel VORTAC to lat. 39°04′27″ N., long. 77°12′04″ W., then clockwise along the 15-mile DME arc of the Washington VOR/DME to lat. 39°06′16″ N., long. 76°58′16″ W., then clockwise along the 15-mile DME arc of the Baltimore VORTAC to lat. 38°55′40″ N., long. 76°35′10″ W., then clockwise along the 15-mile DME arc of the Andrews VORTAC to lat. 38°36′36″ N., long. 77°03′47″ W., then clockwise along the 15-mile DME arc of the Washington VOR/DME to lat. 38°43′12″ N., long. 77°18′07″ W., then clockwise along the 15-mile DME arc of the Armel VORTAC to lat. 38°42′47″ N., long. 77°19′05″ W., to lat. 38°36′42″ N., long. 77°19′18″ W., then counterclockwise along the 20-mile DME arc of the Washington VOR/DME to lat. 38°31′47″ N., long. 77°06′10″ W., then counterclockwise along the 20-mile DME arc of the Andrews VORTAC to the point of beginning; excluding the airspace contained in Restricted Areas R-4001A and R-4001B when active.

Area E. That airspace extending upward from 3,000 feet MSL to and including 10,000 feet MSL between the 15-mile radius and the 20-mile radius of the Armel VORTAC beginning at lat. 38°43′20″ N., long. 77°38′10″ W., to lat. 38°39′05″ N., long. 77°41′31″ W., then counterclockwise along the 20-mile DME arc of the Armel VORTAC to lat. 38°36′38″ N., long. 77°34′06″ W., then along the boundary of Restricted Area R-6608A to lat. 38°36′11″ N., long. 77°25′07″ W., then counterclockwise along the 20-mile DME arc of the Armel VORTAC to lat. 38°37′06″ N., long. 77°19′51″ W., then counterclockwise along the 20-mile DME arc of the Washington VOR/DME to lat. 38°36′42″ N., long. 77°19′18″ W., to lat. 38°42′46″ N., long. 77°19′06″ W., then clockwise along the 15-mile DME arc of the Armel VORTAC to the point of beginning; and that airspace beginning at lat. 39°08′56″ N., long. 77°37′57″ W., to lat. 39°13′13″ N., long. 77°41′15″ W., then clockwise along the 20-mile DME arc of the Armel VORTAC to lat. 39°15′49″ N., long. 77°23′45″ W., to lat. 39°16′32″ N., long. 77°20′50″ W., to lat. 39°08′58″ N., long. 77°18′11″ W., then counterclockwise along the 15-mile DME arc of the Armel VORTAC to the point of beginning; and that airspace beginning at lat. 38°42′46″ N., long. 77°19′06″ W., to lat. 39°08′58″ N., long. 77°18′11″ W., then clockwise along the 15-mile DME arc of the Armel VORTAC to lat. 39°05′02″ N., long. 77°12′35″ W., to lat. 38°39′25″ N., long. 77°13′29″ W., then clockwise along the 15-mile DME arc of the Washington VOR/DME to lat. 38°43′12″ N., long.77°18′08″ W., then clockwise along the 15-mile DME arc of the Armel VORTAC to the point of beginning.

Area F. That airspace extending upward from 1,900 feet MSL to and including 10,000 feet MSL beginning at the point along a line northeast of the Manassas Municipal/Harry P. Davis Field 1 mile parallel to Runway 16L localizer course and the 12-mile DME arc of the Armel VORTAC (lat. 38°44′09″ N., long. 77°29′55″ W.), then northwest along the line to Interstate Highway 66, then west along Interstate Highway 66 to U.S. Highway 29, then west along U.S. Highway 29 to the 12-mile DME arc of the Armel VORTAC (lat. 38°47′13″ N., long. 77°38′22″ W.), then counterclockwise along the 12-mile DME arc of the Armel VORTAC to the point of beginning.

Area G. That airspace extending upward from 4,500 feet MSL to and including 10,000 feet MSL between the 15-mile radius and the 20-mile radius of the Armel VORTAC beginning at lat. 39°08′56″ N., long. 77°37′57″ W., to lat. 39°13′13″ N., long. 77°41′15″ W., then counterclockwise along the 20-mile DME arc of the Armel VORTAC to lat. 38°39′05″ N., long. 77°41′32″ W., to lat. 38°43′20″ N., long. 77°38′11″ W., then clockwise along the 15-mile DME arc of the Armel VORTAC to the point of beginning; and that airspace beginning at lat. 39°02′10″ N., long. 76°16′11″ W., to lat. 38°56′51″ N., long. 76°12′19″ W., to lat. 38°44′15″ N., long. 76°16′04″ W., to lat. 38°40′21″ N., long. 76°28′36″ W., to the point of beginning.

* * * * *

Issued in Washington, DC, on January 31, 2002.
Reginald C. Matthews,
Manager, Airspace and Rules Division.

[FR Doc. 02-3246 Filed 2-8-02; 8:45 am]

BILLING CODE 4910-13-P